DEPARTMENT OF HOMELAND SECURITY

Coast Guard

33 CFR Part 100

[CGD07-05-010]

RIN 1625-AA08

Special Local Regulations; Rowing Regattas, Indian Creek, Miami Beach, FL

AGENCY: Coast Guard, DHS.

ACTION: Temporary final rule; request for comments.

SUMMARY: The Coast Guard is establishing temporary special local regulations for several rowing regattas on Indian Creek, in the vicinity of the 63rd Street Bridge, Miami Beach, Florida. This rule is necessary to insure the safety of life of participants and spectators in the regatta area. This rule is intended to restrict vessels from entering the regulated area during the events unless specifically authorized by the Captain of the Port, Miami, Florida, or his designated representative. The rule further prohibits anchoring or mooring in the regulated area during the events.

DATES: This rule is effective from 8 a.m. on March 6, 2005 through 2 p.m. on April 29, 2005.

ADDRESSES: Documents indicated in the preamble as being available in the docket, are part of docket [CGD07-05-010] and are available for inspection or copying at Coast Guard Sector Miami, 100 MacArthur Causeway, Miami Beach, FL 33139 between 8 a.m. and 4:30 p.m., Monday through Friday, except Federal holidays.

FOR FURTHER INFORMATION CONTACT: BMC D. Vaughn or BMC R. Terrell, Coast Guard Sector Miami, Florida, at (305) 535-4317.

SUPPLEMENTARY INFORMATION:

Regulatory Information

We did not publish a notice of proposed rulemaking (NPRM) for this regulation. Under 5 U.S.C. 553(b)(B), the Coast Guard finds that good cause exists for not publishing an NPRM. One sponsor of the event was unable to provide complete information about the event until January 31, 2005, and this did not allow enough time for an NPRM and a comment period. Delaying this rule would be contrary to the public interest as the special local regulations are needed to ensure the safety of spectators and regatta participants during the event, and immediate action is necessary to prevent possible loss of life or property.

Under 5 U.S.C. 553(d)(3), for the same reasons articulated in the preceding paragraph, the Coast Guard finds that good cause exists for making this rule effective less than 30 days after publication in the Federal Register.

Request for Comments

We encourage you to participate in this rulemaking by submitting comments and related material. If you do so, please include your name and address, identify the docket number for this rulemaking [CGD07-05-010], indicate the specific section of this document to which each comment applies, and give the reason for each comment. Please submit all comments and related material in an unbound format, no larger than 8½ by 11 inches, suitable for copying. If you would like to know they reached us, please enclose a stamped, self-addressed postcard or envelope. We will consider all comments received and may change the rule in view of them.

Background and Purpose

Miami Beach Watersports Center, Inc. and the University of Miami are separately sponsoring several rowing regattas on March 6, March 12, and April 29, 2005 from 8 a.m. until 2 p.m. These regattas share a common regatta area on Indian Creek in Miami Beach, Florida. The regatta area extends from 1 nm south of the 63rd Street Bridge to the entrance of Surprise Lake, Miami Beach, Florida. The race organizers anticipate 200 participants. Event races will take place to one side of the waterway and participant vessels will use the other side of the waterway to return along the length of the racecourse once each race is complete. Recreational vessels and fishing vessels normally operate in the waters being regulated. This rule is required to provide for the safety of life on navigable waters because of the inherent dangers associated with rowing races and dangers imposed by non-participant vessels. The rule prohibits non-participant vessels from entering the regulated race area on Indian Creek, Miami Beach, Florida during the event unless authorized by the Captain of the Port, Miami, Florida, or his designated representative. Anchoring and mooring within the regulated area will also be prohibited.

Discussion of Rule

The special local regulations for this event prohibit non-participant vessels from entering the regulated area unless authorized by the Coast Guard Captain of the Port or his designated representative.

The regulated area encompasses all waters of Indian Creek from one nautical mile south of the 63rd Street Bridge to the entrance of Surprise Lake. No anchoring will be permitted in the regulated area.

This rule will be effective from 8 a.m. on March 6, 2005 through 2 p.m. on April 29, 2005 to cover all three crew regattas, however the regulated area will only be enforced from 8 a.m. to 2 p.m. on each of the event dates of March 6, March 12 and April 29, 2005.

Regulatory Evaluation

This rule is not a “significant regulatory action” under section 3(f) of Executive Order 12866, Regulatory Planning and Review, and does not require an assessment of potential costs and benefits under section 6(a)(3) of that Order. The Office of Management and Budget has not reviewed it under that Order. It is not “significant” under the regulatory policies and procedures of the Department of Homeland Security (DHS).

We expect the economic impact of this rule to be so minimal that a full Regulatory Evaluation under the regulatory policies and procedures of DHS is unnecessary. This event is a stationary event, and the regulated area will only be enforced for approximately 6 hours on each event day (March 6, March 12, and April 29) during which non-participant vessels will still be allowed to transit the area with permission of the Capt of the Port, Miami or his designated representative.

Small Entities

Under the Regulatory Flexibility Act (5 U.S.C. 601-612), we have considered whether this rule would have a significant economic impact on a substantial number of small entities. The term “small entities” comprises small businesses, not-for-profit organizations that are independently owned and operated and are not dominant in their fields, and governmental jurisdictions with populations of less than 50,000.

The Coast Guard certifies under 5 U.S.C. 605(b) that this rule would not have a significant economic impact on a substantial number of small entities. This rule may affect the following entities, some of which may be small entities: The owners or operators of vessels intending to transit or anchor in the regulated area from 8 a.m. to 2 p.m. on March 6, March 12, and April 29, 2005. These special local regulations will not have a significant economic impact on a substantial number of small entities for the following reasons: The regulated area will only be enforced for approximately 6 hours on each of the three event days at a time of day when vessel traffic is low. Vessel traffic will still be allowed to transit the regulated area with the permission of the Captain of the Port, Miami or his designated representative.

Assistance for Small Entities

Under section 213(a) of the Small Business Regulatory Enforcement Fairness Act of 1996 (Pub. L. 104-121), we offer to assist small entities in understanding this rule so that they can better evaluate its effects on them and participate in the rulemaking process. If the rule would affect your small business, organization, or governmental jurisdiction and you have questions concerning its provisions or options for compliance, please contact the persons listed under FOR FURTHER INFORMATION for assistance in understanding this rule.

Small business may send comments on the actions of Federal employees who enforce, or otherwise determine compliance with Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

Collection of Information

This rule would call for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this rule would not result in such an expenditure, we do discuss the effects of this rule elsewhere in this preamble.

Taking of Private Property

This rule would not affect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and would not create an environmental risk to health or risk to safety that might disproportionately affect children.

Indian Tribal Governments

This rule does not have tribal implications under Executive Order 13175, Consultation and Coordination with Indian Tribal Governments, because it would not have a substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This rule does not use technical standards. Therefore, we did not consider the use of voluntary consensus standards.

Environment

We have analyzed this rule under Commandant Instruction M16475.lD, which guides the Coast Guard in complying with the National Environmental Policy Act of 1969 (NEPA) (42 U.S.C. 4321-4370f), and have concluded that there are no factors in this case that would limit the use of a categorical exclusion under section 2.B.2 of the Instruction. Therefore, this rule is categorically excluded, under figure 2-1, paragraph (34)(h), of the Instruction, from further environmental documentation. As special local regulations established in conjunction with a regatta, this rule fits within paragraph (34)(h). Under figure 2-1, paragraph (34)(h), of the Instruction, an “Environmental Analysis Check List” and a “Categorical Exclusion Determination” are not required for this rule.

List of Subjects in 33 CFR Part 100

Marine safety, Navigation (water), Reporting and recordkeeping requirements, Waterways.

q

For the reasons discussed in the preamble, the Coast Guard proposes to amend 33 CFR part 100 as follows:

PART 100—SAFETY OF LIFE ON NAVIGABLE WATERS

1. The authority citation for part 100 continues to read as follows:

Authority: 33 U.S.C. 1233; Department of Homeland Security Delegation No. 0170.1.

2. From 8 a.m. on March 6, 2005 through 2 p.m. on April 29, 2005 add temporary § 100.T07-010 to read as follows:

100.T-07-010 2005 Special Local Regulations; Rowing Regattas; Indian Creek, Miami Beach, FL

(a) Regulated area. (1) The regulated area encompasses all waters from shore to shore, located on Indian Creek from one nautical mile south of the 63rd Street Bridge to the entrance of Surprise Lake, Miami Beach, Florida.

(2) Races will be conducted on the western side of the regulated area with race participants returning along the length of the racecourse via the eastern side of the regulated area.

(b) Regulations. In accordance with § 100.35 of this part, all vessels and persons are prohibited from anchoring, mooring, or entering into the regulated area unless authorized by the Coast Guard Captain of the Port, Miami, Florida or his designated representative. Persons desiring to enter into or transit the regulated area may seek permission from the Captain of the Port of Miami via telephone, at (305) 535-8701, or from his designated representative on-scene. All persons and vessels within the regulated area must comply with the instructions of the Captain of the Port or his designated representative.

(c) Definitions. Designated representative means Coast Guard Patrol Commanders including Coast Guard coxswains, petty officers and other officers operating Coast Guard vessels, and federal, state, and local officers designated by or assisting the Captain of the Port (COTP), Miami, Florida, in the enforcement of the special local regulations.

(d) Enforcement period. This section will be enforced from 8 a.m. to 2 p.m. on March 6, March 12, and April 29, 2005.

Dated: February 16, 2005.
W.E. Justice,
Captain, U.S. Coast Guard, Acting Commander, Seventh Coast Guard District.

[FR Doc. 05-4294 Filed 3-4-05; 8:45 am]

BILLING CODE 4910-15-P